ENVIRONMENTAL PROTECTION AGENCY

[EPA-HQ-OAR-2023-0129; FRL-12524-OMS-01]

Agency Information Collection Activities; Submission to the Office of Management and Budget for Review and Approval; Comment Request; Consolidated Air Rule for the Synthetic Organic Chemical Manufacturing Industry (Renewal)

AGENCY: Environmental Protection Agency (EPA).

ACTION: Notice.

SUMMARY: The Environmental Protection Agency (EPA) has submitted an information collection request (ICR), Consolidated Air Rule for the Synthetic Organic Chemical Manufacturing Industry (EPA ICR Number 1854.14, OMB Control Number 2060-0443) to the Office of Management and Budget (OMB) for review and approval in accordance with the Paperwork Reduction Act. This is a proposed extension of the ICR, which is currently approved through December 31, 2024. Public comments were previously requested via the Federal Register on May 18, 2023 during a 60-day comment period. This notice allows for an additional 30 days for public comments.

DATES: Comments may be submitted on or before January 27, 2025.

ADDRESSES: Submit your comments, referencing Docket ID Number EPA-HQ-OAR-2023-0129, to EPA online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a request for approval of a new collection. An agency may not conduct or sponsor, and a person is not required to respond to, a collection of information unless it displays a currently valid OMB control number.

Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The Consolidated Federal Air Rule (CAR) for the Synthetic Organic Chemical Manufacturing Industry (SOCMI) (40 CFR part 65) was promulgated on December 14, 2000; and amended on August 27, 2007, November 12, 2010, August 11, 2011, June 25, 2013, and January 19, 2021. The CAR regulations are an optional compliance approach for new and existing SOCMI facilities that must comply with existing subparts in the Code of Federal Regulations (CFR). The CAR is a consolidation of major portions of 15 different New Source Performance Standards (NSPS) and National Emission Standards for Hazardous Air Pollutants (NESHAP) pertaining to storage vessels, process vents, transfer racks, equipment leaks, and the general provisions for the three applicable parts (40 CFR parts 60, 61, and 63). These subparts are referred to as “referencing Subparts” because they have been amended to refer to the CAR as a compliance alternative. New facilities include those that commenced construction, modification or reconstruction after the date of proposal of the applicable referencing subpart(s). The referencing subparts include 40 CFR part 60, subparts Ka, Kb, VV, VVa, DDD, III, NNN, and RRR; 40 CFR part 61, subparts BB, Y, and V; 40 CFR part 63, subparts F, G, H, and I. This ICR does not incorporate burden from recently proposed amendments to referencing subparts VV, VVa, III, NNN, RRR, F, G, H, or I (88 FR 25080) or subpart Kb (88 FR 68535). This information is being collected to assure compliance with 40 CFR part 65.

Compliance with the CAR is a voluntary alternative. Sources may either continue to comply with existing applicable rules or may choose to comply with the consolidated rule. All existing sources must be in compliance with the requirements of the CAR and/or its referencing Subparts within three years of the effective date (i.e., promulgation date) of the appropriate standard for the affected source. All new sources must be in compliance with the requirements of the CAR and/or its referencing Subparts upon startup or the promulgation date of standards for an affected source, whichever is later.

In general, all the NSPS, NESHAP, CAR, and maximum achievable control technology (MACT) standards require initial notifications, performance tests, and periodic reports by the owners/operators of the affected facilities. They are also required to maintain records of the occurrence and duration of any startup, shutdown, or malfunction in the operation of an affected facility or any period during which the monitoring system is inoperative. These notifications, reports, and records are essential in determining compliance, and are required of all affected facilities subject to these standards.

Form Numbers: None.

Respondents/affected entities: Synthetic organic chemical manufacturing facilities.

Respondent's obligation to respond: Mandatory (40 CFR part 60, subparts Ka, Kb, VV, VVa, DDD, III, NNN, and RRR; 40 CFR part 61, subparts V, Y, and BB; and 40 CFR part 63, subparts F, G, H, and I; 40 CFR part 65).

Estimated number of respondents: 1,346 (total).

Frequency of response: Initially, quarterly, semiannually, annually.

Total estimated burden: 1,220,000 hours (per year). Burden is defined at 5 CFR 1320.3(b).

Total estimated cost: $219,000,000 (per year), includes $65,200,000 annualized capital or operation & maintenance costs.

Changes in the Estimates: The increase in burden from the most recently approved ICR is due to adjustments. This increase is due in part to an adjustment to the number of sources assumed to comply with the CAR instead of the referencing Subparts. Recent Title V permit reviews for a HON rulemaking identified very few facilities were complying with the CAR. Based on the information reviewed for this rulemaking, we have assumed only 10% of sources will choose to comply with the CAR. This change, in addition to increased respondent counts, resulted in an increase in burden hours for referencing Subparts associated with HON. Additionally, respondent counts increased for several referencing Subparts based on industry growth rates.

Courtney Kerwin,
Director, Regulatory Support Division.

[FR Doc. 2024-30641 Filed 12-23-24; 8:45 am]

BILLING CODE 6560-50-P